DEPARTMENT OF HEALTH AND HUMAN SERVICES

Centers for Disease Control and Prevention

[30 Day-19-0234]

Agency Forms Undergoing Paperwork Reduction Act Review

In accordance with the Paperwork Reduction Act of 1995, the Centers for Disease Control and Prevention (CDC) has submitted the information collection request titled National Ambulatory Medical Care Survey (NAMCS) to the Office of Management and Budget (OMB) for review and approval. CDC previously published a “Proposed Data Collection Submitted for Public Comment and Recommendations” notice on August 10, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

National Ambulatory Medical Care Survey (NAMCS) (OMB Control No. 0920-0234, Exp. Date 03/31/2019)—Revision—National Center for Health Statistics (NCHS), Centers for Disease Control and Prevention (CDC).

Background and Brief Description

Section 306 of the Public Health Service (PHS) Act (42 U.S.C. 242k), as amended, authorizes that the Secretary of Health and Human Services, acting through NCHS, shall collect statistics on the utilization of health care provided by non-federal office-based physicians in the United States. On March 14, 2016, the OMB approved data collection for three years from 2016 to 2018. This revision is to request approval to continue NAMCS data collection activities for three years from 2019-2021. The National Ambulatory Medical Care Survey (NAMCS) has been conducted intermittently from 1973 through 1985, and annually since 1989. The purpose of NAMCS, a voluntary survey, is to meet the needs and demands for statistical information about the provision of ambulatory medical care services in the United States. Ambulatory services are rendered in a wide variety of settings, including physicians' offices and hospital outpatient and emergency departments.

The NAMCS target universe consists of all office visits made by ambulatory patients to non-Federal office-based physicians (excluding those in the specialties of anesthesiology, radiology, and pathology) who are engaged in direct patient care. In 2006, physicians and non-physician clinicians (i.e., nurse practitioners, physician assistants, and nurse midwives) practicing in community health centers (CHCs) were added to the NAMCS sample, and these data will continue to be collected. Having completed data collection on a number of topic areas such (a) as the prevention and treatment of sexually transmitted infections (STIs) and HIV (STD/PrEP) prevention, (b) culturally and linguistically appropriate services, and (c) alcohol and substance abuse screening and brief intervention, those items will be discontinued in 2019. Likewise, beginning in 2019 some existing instrument language will be modified to ensure communication of provider informed consent, and certain data items will be modified/deleted intended to (a) enhance data collection, (b) reduce provider burden, and (c) to maintain compliance with the Department of Health and Human Services guidance on data collection standards for race and ethnicity for self-identification. While the 2018 reabstraction of physician visits will continue into the 2019 calendar year, the 2019 reabstraction of patient visits will be discontinued. The supplemental sample of Meaningful Use (MU) physicians will again be fielded in 2020, with an increase in the sample size for survey years 2020 and 2021. Finally, a reinterview study will be initiated for 2019-2021.

There is no cost to the respondents other than their time. The estimated annual burden hours are 5,039.

Estimated Annualized Burden Hours
Type of respondents | Form name | Number of respondents | Number of responses per respondent | Average burden per response (in hrs.)
Traditional Office-based Physicians or Staff | 2018 Physician Induction Interview (NAMCS-1) | 122 | 1 | 30/60
| 2019+ Physician Induction Interview (NAMCS-1) | 1,097 | 1 | 30/60
| 2018 Pulling, re-filing medical record forms (FR abstracts) | 99 | 30 | 1/60
| 2019+ Pulling, re-filing medical record forms (FR abstracts) | 893 | 30 | 1/60
MU Office-based Physician Staff | 2019+ MU Physician Induction Interview (NAMCS-PFI) | 2,000 | 1 | 45/60
| 2019+ Pulling, re-filing medical record forms (MU Onboarding) | 2,000 | 1 | 60/60
Community Health Center Executive/Medical Directors | 2018 Induction Interview—service delivery site (NAMCS-201) | 12 | 1 | 30/60
| 2019+ Induction Interview—service delivery site (NAMCS-201) | 104 | 1 | 30/60
Community Health Center Providers | 2018 Induction Interview—Providers (NAMCS-1) | 36 | 1 | 30/60
| 2019+ Induction Interview—Providers (NAMCS-1) | 312 | 1 | 30/60
Community Health Center Provider Staff | 2018 Pulling, re-filing medical record forms (FR abstracts) | 36 | 30 | 1/60
| 2019+ Pulling, re-filing medical record forms (FR abstracts) | 312 | 30 | 1/60
Traditional Physician Office-based and Community Health Center Staff | 2018 Pulling, re-filing medical record forms (FR abstracts) for the Reabstraction Study | 3 | 10 | 1/60
Traditional Physician Office-based and Community Health Center Staff | 2019+ Reinterview Study | 100 | 1 | 15/60

Jeffrey M. Zirger,
Lead, Information Collection Review Office, Office of Scientific Integrity, Office of Science, Centers for Disease Control and Prevention.

[FR Doc. 2019-05156 Filed 3-18-19; 8:45 am]

BILLING CODE 4163-18-P